DEPARTMENT OF ENERGY

Federal Energy Regulatory Commission

[ Project No. P-13563-001]

Juneau Hydropower, Inc.; Notice of Scoping Meeting and Site Visit and Soliciting Scoping Comments for an Applicant Prepared Environmental Assessment Using the Alternative Licensing Process

a. Type of Application: Alternative Licensing Process.

b. Project No.: 13563-001.

c. Applicant: Juneau Hydropower, Inc.

d. Name of Project: Sweetheart Lake Hydroelectric Project.

e. Location: On Sweetheart Lake, approximately 30 air miles southeast of the city of Juneau, Alaska. The project would occupy lands of the Tongass National Forest.

f. Filed Pursuant to: Federal Power Act, 16 U.S.C. 791(a)-825(r).

g. Applicant Contact: Duff Mitchell, Business Manager, Juneau Hydropower, Inc., P.O. Box 22775, Juneau, AK 99802; 907-789-2775, e-mail: duff.mitchell@juneauhydro.com.

h. FERC Contact: Jennifer Harper, at (202) 502-6136.

i. Deadline for filing scoping comments: October 7, 2011.

All documents (original and seven copies) should be filed with: Kimberly D. Bose, Secretary, Federal Energy Regulatory Commission, 888 First Street, NE., Washington, DC 20426.

The Federal Energy Regulatory Commission's (Commission) Rules of Practice and Procedure require all interveners filing documents with the Commission to serve a copy of that document on each person on the official service list for the project. Further, if an intervener files comments or documents with the Commission relating to the merits of an issue that may affect the responsibilities of a particular resource agency, they must also serve a copy of the document on that resource agency.

Scoping comments may be filed electronically via the Internet in lieu of paper. The Commission strongly encourages electronic filings. See 18 CFR 385.2001(a)(1)(iii) and the instructions on the Commission's Web site (http://www.ferc.gov/docs-filing/ferconline.asp) under the “e-filing” link. For a simpler method of submitting text only comments, click on “Quick Comment.”

j. The proposed project would consist of: (1) The existing Lower Sweetheart Lake, raised from a surface water elevation of 544 feet and a surface area of 1,414 acres to a new surface water elevation of 629 feet and a new surface area of 1,635 acres; (2) a new, approximately 500-foot-long, 90-foot-high concrete and rock-faced dam, constructed at the outlet of Lower Sweetheart Lake; (3) an intake on the dam connecting to a 12-foot-diameter, 10,390-foot-long unlined tunnel; (4) a 9-foot-diameter, 1,650-foot-long penstock installed within the lower potion of the tunnel, connecting to the powerhouse; (5) a powerhouse containing two new Francis generating units with a total installed capacity of 30 MW; (6) a new tailrace discharging flows to Sweetheart Creek; (7) a new approximately 0.6-mile long road from the powerhouse to the dock/landing site; (8) a new dock/landing site for boat, seaplane, and/or helicopter access, located on the east shore of Gilbert Bay; (9) a new 138-kilovolt transmission line that would be either 8.9 miles long with 5.9 miles of overhead line and 3 miles of submerged line, or 8.4 miles long with 0.4 miles of overhead line and 8.0 miles of submerged line; and (10) appurtenant facilities.

k. Scoping Process

Juneau Hydropower, Inc. (Juneau Hydropower) is using the Commission's alternative licensing process (ALP). Under the ALP, Juneau Hydropower will prepare an Applicant Prepared Environmental Assessment (APEA) and license application for the Sweetheart Lake Hydroelectric Project.

Juneau Hydropower expects to file, with the Commission, the APEA and the license application for the Sweetheart Lake project by November 30, 2012. Although Juneau Hydropower's intent is to prepare an APEA, there is the possibility that an Environmental Impact Statement (EIS) will be required. Nevertheless, this meeting will satisfy the scoping requirements, pursuant to the National Environmental Policy Act of 1969, as amended, irrespective of whether an EA or EIS is issued by the Commission.

The purpose of this notice is to inform you of the opportunity to participate in the upcoming scoping meetings identified below, and to solicit your scoping comments.

Scoping Meetings

Juneau Hydropower and the Commission staff will hold two scoping meetings, one in the daytime and one in the evening, to help us identify the scope of issues to be addressed in the APEA.

The daytime scoping meeting will focus on resource agency concerns, while the evening scoping meeting is primarily for public input. All interested individuals, Native Alaskan tribes, organizations, and agencies are invited to attend one or both of the meetings, and to assist the staff in identifying the environmental issues that should be analyzed in the APEA. The times and locations of these meetings are as follows:

Daytime Meeting September 7, 2011, 9 a.m.-12 p.m. (Alaska Standard Time), Juneau Ranger District Conference Room, 8510 Mendenhall Loop Road, Juneau, AK 99801.

Evening Meeting

September 7, 2011, 6 p.m.-9 p.m. (Alaska Standard Time), Juneau Centennial Hall, Hickel Room, 101 Egan Drive, Juneau, AK 99801.

Site Visit

Juneau Hydropower, Commission staff, and state and federal resource agencies will participate in an aerial tour of the project site on Thursday, September 8, 2011. Anyone with questions about the aerial tour should contact Duff Mitchell, Juneau Hydropower, at (907) 789-2775. Those individuals planning to participate in the aerial tour should notify Mr. Mitchell of their intent no later than September 1, 2011.

To help focus discussions, Scoping Document 1 (SD1) was mailed August 8, 2011, outlining the subject areas to be addressed in the APEA, to the parties on the mailing list. Copies of the SD1 also will be available at the scoping meetings. SD1 is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659.

You may also register online at http://www.ferc.gov/docs-filing/esubscription.asp to be notified via e-mail of new filings and issuances related to this or other pending projects. For assistance, contact FERC Online Support.

Based on all written comments received, a Scoping Document 2 (SD2) may be issued. SD2 will include a revised list of issues, based on the scoping sessions.

Objectives

At the scoping meetings, the staff will: (1) Summarize the environmental issues tentatively identified for analysis in the APEA; (2) solicit from the meeting participants all available information, especially quantifiable data, on the resources at issue; (3) encourage statements from experts and the public on issues that should be analyzed in the APEA, including viewpoints in opposition to, or in support of, the staff's preliminary views; (4) determine the resource issues to be addressed in the APEA; and (5) identify those issues that require a detailed analysis, as well as those issues that do not require a detailed analysis.

Procedures

The meetings will be recorded by a stenographer and will become part of the formal record of the Commission proceeding on the project.

Individuals, organizations, and agencies with environmental expertise and concerns are encouraged to attend the meetings and to assist Juneau Hydropower in defining and clarifying the issues to be addressed in the APEA.

Dated: August 10, 2011.
Kimberly D. Bose,
Secretary.

[FR Doc. 2011-20898 Filed 8-16-11; 8:45 am]

BILLING CODE 6717-01-P